DEPARTMENT OF ENERGY

Federal Energy Regulatory Commission

Combined Notice of Filings

Take notice that the Commission has received the following Natural Gas Pipeline Rate and Refund Report filings:

Filings Instituting Proceedings

Docket Numbers: RP17-214-000.

Applicants: Transcontinental Gas Pipe Line Company.

Description: § 4(d) Rate Filing: Negotiated Rates—Cherokee AGL—Replacement Shippers—Dec 2016 to be effective 12/1/2016.

Filed Date: 11/30/16.

Accession Number: 20161130-5133.

Comments Due: 5 p.m. ET 12/12/16.

Docket Numbers: RP17-215-000.

Applicants: El Paso Natural Gas Company, L.L.C.

Description: § 4(d) Rate Filing: Non-Conforming Agreements Filing (Pioneer) to be effective 1/1/2017.

Filed Date: 11/30/16.

Accession Number: 20161130-5134.

Comments Due: 5 p.m. ET 12/12/16.

Docket Numbers: RP17-216-000.

Applicants: El Paso Natural Gas Company, L.L.C.

Description: § 4(d) Rate Filing: 11.2(a) Inflation Rates to be effective 1/1/2017.

Filed Date: 11/30/16.

Accession Number: 20161130-5159.

Comments Due: 5 p.m. ET 12/12/16.

Docket Numbers: RP17-217-000.

Applicants: Alliance Pipeline L.P.

Description: § 4(d) Rate Filing: 2017 Tioga Electric Charge to be effective1/1/2017.

Filed Date: 11/30/16.

Accession Number: 20161130-5184.

Comments Due: 5 p.m. ET 12/12/16.

Docket Numbers: RP17-218-000.

Applicants: Texas Gas Transmission, LLC.

Description: § 4(d) Rate Filing: Non-conforming Neg Rate Agmt due to Cap Rel (CCI East Texas 35829) to be effective 12/1/2016.

Filed Date: 11/30/16.

Accession Number: 20161130-5187.

Comments Due: 5 p.m. ET 12/12/16.

Docket Numbers: RP17-219-000.

Applicants: Gulf South Pipeline Company, LP.

Description: § 4(d) Rate Filing: Cap Rel Neg Rate Agmts (Atlanta 8438 to various eff 12-1-2016) to be effective 12/1/2016.

Filed Date: 11/30/16.

Accession Number: 20161130-5188.

Comments Due: 5 p.m. ET 12/12/16.

Docket Numbers: RP17-220-000.

Applicants: Gulf South Pipeline Company, LP.

Description: § 4(d) Rate Filing: Cap Rel Neg Rate Agmt (Petrohawk 41455 to texla 47450) to be effective 12/1/2016.

Filed Date: 11/30/16.

Accession Number: 20161130-5191.

Comments Due: 5 p.m. ET 12/12/16.

Docket Numbers: RP17-221-000.

Applicants: Gulf South Pipeline Company, LP.

Description: § 4(d) Rate Filing: Cap Rel Neg Rate Agmt (Encana 37663 to texla 47451) to be effective 12/1/2016.

Filed Date: 11/30/16.

Accession Number: 20161130-5192.

Comments Due: 5 p.m. ET 12/12/16.

Docket Numbers: RP17-223-000.

Applicants: Northern Natural Gas Company.

Description: § 4(d) Rate Filing: 20161130 Remove Non Conforming to be effective 1/1/2017.

Filed Date: 11/30/16.

Accession Number: 20161130-5221.

Comments Due: 5 p.m. ET 12/12/16.

Docket Numbers: RP17-224-000.

Applicants: Gulf South Pipeline Company, LP.

Description: § 4(d) Rate Filing: Amendment to Neg Rate Agmts (ExGen 43197-3, 43197-5, 43198-4, 43198-6) to be effective 10/1/2016.

Filed Date: 11/30/16.

Accession Number: 20161130-5251.

Comments Due: 5 p.m. ET 12/12/16.

Docket Numbers: RP17-225-000.

Applicants: Dauphin Island Gathering Partners.

Description: § 4(d) Rate Filing: Negotiated Rate Filing 11-30-2016 to be effective 12/1/2016.

Filed Date: 11/30/16.

Accession Number: 20161130-5255.

Comments Due: 5 p.m. ET 12/12/16.

Docket Numbers: RP17-226-000.

Applicants: Algonquin Gas Transmission, LLC.

Description: § 4(d) Rate Filing: Negotiated Rate Agreement—Plymouth 792668 to be effective 12/1/2016.

Filed Date: 11/30/16.

Accession Number: 20161130-5325.

Comments Due: 5 p.m. ET 12/12/16.

Docket Numbers: RP17-227-000.

Applicants: Algonquin Gas Transmission, LLC.

Description: § 4(d) Rate Filing: Negotiated Rate Agreement—Emera 510979 to be effective 12/1/2016.

Filed Date: 11/30/16.

Accession Number: 20161130-5327.

Comments Due: 5 p.m. ET 12/12/16.

Docket Numbers: RP17-228-000.

Applicants: Natural Gas Pipeline Company of America.

Description: § 4(d) Rate Filing: CNE Gas Supply Negotiated Rate to be effective 12/1/2016.

Filed Date: 11/30/16.

Accession Number: 20161130-5329.

Comments Due: 5 p.m. ET 12/12/16.

Docket Numbers: RP17-229-000.

Applicants: Algonquin Gas Transmission, LLC.

Description: § 4(d) Rate Filing: Negotiated Rate Agreement—Enhanced Energy—792657 to be effective12/1/2016.

Filed Date: 11/30/16.

Accession Number: 20161130-5333.

Comments Due: 5 p.m. ET 12/12/16.

Docket Numbers: RP17-230-000.

Applicants: Algonquin Gas Transmission, LLC.

Description: § 4(d) Rate Filing: Negotiated Rate—BUG Release to Enhanced—792656 to be effective12/1/2016.

Filed Date: 11/30/16.

Accession Number: 20161130-5334.

Comments Due: 5 p.m. ET 12/12/16.

Docket Numbers: RP17-231-000.

Applicants: Dominion Transmission, Inc.

Description: § 4(d) Rate Filing: DTI—November 30, 2016 Negotiated Rate Agreements to be effective 12/1/2016.

Filed Date: 11/30/16.

Accession Number: 20161130-5335.

Comments Due: 5 p.m. ET 12/12/16.

Docket Numbers: RP17-232-000.

Applicants: Alliance Pipeline L.P.

Description: § 4(d) Rate Filing: Energy America Contract Consolidation to be effective 12/1/2016.

Filed Date: 11/30/16.

Accession Number: 20161130-5347.

Comments Due: 5 p.m. ET 12/12/16.

Docket Numbers: RP17-233-000.

Applicants: Texas Eastern Transmission, LP.

Description: § 4(d) Rate Filing: Negotiated Rate—ConEd release to Plymouth—8944211 to be effective 12/1/2016.

Filed Date: 11/30/16.

Accession Number: 20161130-5352.

Comments Due: 5 p.m. ET 12/12/16.

Docket Numbers: RP17-234-000.

Applicants: Tennessee Gas Pipeline Company, L.L.C.

Description: § 4(d) Rate Filing: Volume No. 2—Neg Rate Agmt—Exelon Generation & Mex Gas Supply to be effective 12/1/2016.

Filed Date: 11/30/16.

Accession Number: 20161130-5367.

Comments Due: 5 p.m. ET 12/12/16.

Docket Numbers: RP17-235-000.

Applicants: Transcontinental Gas Pipe Line Company.

Description: § 4(d) Rate Filing: Rate Schedule S-2 Tracker 12-1-16 to be effective 12/1/2016.

Filed Date: 12/1/16.

Accession Number: 20161201-5080.

Comments Due: 5 p.m. ET 12/13/16.

Docket Numbers: RP17-236-000.

Applicants: Equitrans, L.P.

Description: § 4(d) Rate Filing: Negotiated Capacity Release Agreements—12/1/2016 to be effective 12/1/2016.

Filed Date: 12/1/16.

Accession Number: 20161201-5083.

Comments Due: 5 p.m. ET 12/13/16.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP16-300-004.

Applicants: Empire Pipeline, Inc.

Description: Empire Pipeline, Inc. submits Compliance Filing (Modification to Stipulation and Agreement).

Filed Date: 11/17/16.

Accession Number: 20161117-5096.

Comments Due: 5 p.m. ET 11/29/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 1, 2016.
Nathaniel J. Davis, Sr.,
Deputy Secretary.

[FR Doc. 2016-29787 Filed 12-12-16; 8:45 am]

BILLING CODE 6717-01-P